DEPARTMENT OF ENERGY

International Energy Agency Meeting

AGENCY: Department of Energy.

ACTION: Notice of meeting.

SUMMARY: The Industry Advisory Board to the International Energy Agency (IEA) will meet on June 2, 2003, at the headquarters of the IEA in Paris, France.

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held at the headquarters of the IEA, 9, rue de la Fédération, Paris, France, on June 2, 2003, beginning at 2:30 p.m. The purpose of this notice is to permit attendance by representatives of U.S. company members of the IAB at the meeting.

The agenda for the meeting is a discussion of the results of the IEA's study on minimum operating stocks. The meeting is intended to allow for industry input to be incorporated into the IEA's study before its distribution and discussion in the June 17, 2003, meeting of the IEA's Standing Group on Emergency Questions (SEQ). The agenda of the SEQ meeting is under the control of the IEA.

As provided in section 252(c)(1)(A)(ii) of the Energy Policy and Conservation Act (42 U.S.C. 6272(c)(1)(A)(ii)), this meeting is open only to representatives of members of the IAB and their counsel; representatives of members of the SEQ; representatives of the Departments of Energy, Justice, and State, the Federal Trade Commission, the General Accounting Office, Committees of Congress, the IEA, and the European Commission; and invitees of the IAB, the SEQ, or the IEA.

Issued in Washington, DC, May 19, 2003.
Robert Newton,
Acting Assistant General Counsel for International and National Security Programs.

[FR Doc. 03-13008 Filed 5-22-03; 8:45 am]

BILLING CODE 6450-01-P